DEPARTMENT OF COMMERCE

International Trade Administration

A-570-922

Notice of Postponement of Preliminary Determination of Antidumping Duty Investigation: Raw Flexible Magnets from the People's Republic of China

AGENCY: Import Administration, International Trade Administration, Department of Commerce.

EFFECTIVE DATE: January 31, 2008.

FOR FURTHER INFORMATION CONTACT: Melissa Blackledge or Shawn Higgins, AD/CVD Operations, Office 4, Import Administration, International Trade Administration, U.S. Department of Commerce, 14th Street and Constitution Avenue, NW., Washington, DC, 20230; telephone: (202) 482-3518 or (202) 482-0679, respectively.

SUPPLEMENTARY INFORMATION:

Postponement of Preliminary Determination

On October 18, 2007, the Department of Commerce (the “Department”) initiated the antidumping duty investigation of raw flexible magnets from the People's Republic of China. See Notice of Initiation of Antidumping Duty Investigations: Raw Flexible Magnets from the People's Republic of China and Taiwan, 72 FR 59071 (July 24, 2007) (“Initiation Notice”). The notice of initiation stated that, unless postponed, the Department would make its preliminary determination in these antidumping duty investigations no later than 140 days after the date of the initiation. See Initiation Notice.

On January 16, 2008, Magnum Magnetics Corporation (“Petitioner”) made a timely request pursuant to 19 CFR 351.205(e) for a fifty-day postponement of the preliminary determination in this investigation. Petitioner requested postponement of the preliminary determination because of the complexity of the case, the Department's unfamiliarity with the industry, and the difficult time schedule ahead.For the reasons identified by the Petitioner, and because there are no compelling reasons to deny the request, the Department is postponing the preliminary determination under section 733(c)(1)(A) of the Tariff Act of 1930, as amended (the “Act”), by fifty days from February 29, 2008 to April 19, 2008. However, as that date falls on a Saturday, the preliminary determination will be due no later than the next business day, Monday, April 21, 2008. The deadline for the final determination will continue to be 75 days after the date of the preliminary determination, unless extended.

This notice is issued and published pursuant to sections 733(c)(2) of the Act and 19 CFR 351.205(f)(1).

Dated: January 24, 2008.
David M. Spooner,
Assistant Secretary for Import Administration.

[FR Doc. E8-1759 Filed 1-30-08; 8:45 am]

BILLING CODE 3510-DS-S